DEPARTMENT OF LABOR

Employment and Training Administration

Notice of Availability of Funds and Solicitation for Grant Applications for High Growth Job Training Initiative Grants for the Energy Industry and Construction and Skilled Trades in the Energy Industry

Solicitation for Grant Applications

Announcement Type: New. Notice of solicitation for grant applications.

Funding Opportunity Number: SGA/DFA PY 07-07.

Catalog of Federal Domestic Assistance CFDA Number: 17.268.

Key Dates: The closing date for receipt of applications under this announcement is March 25, 2008. Applications must be received at the address below no later than 4 p.m. (Eastern Time). A Webinar for prospective applicants will be held for this grant competition on February 1, 2008. Access information for the Webinar will be posted on the U.S. Department of Labor's (DOL), Employment and Training Administration (ETA) Web site at:

http://www.workforce3one.org.

Summary: Under the President's High Growth Job Training Initiative (HGJTI), DOL/ETA, announces the availability of approximately $10 million in grant funds for high-impact regional approaches to meet the workforce challenges of the energy industry and/or address the shortage of construction and skilled trade workers needed to maintain and expand the energy industry infrastructure.

The President's HGJTI is a strategic effort to prepare workers for new and increasing job opportunities in high-growth, high-demand, and economically vital industries and sectors of the American economy. Through the initiative, ETA identifies high-growth, high-demand industries, evaluates the skill needs of those industries, and funds local and national partnership-based demonstration projects that: (a) Address industry-specific workforce challenges within the context of regional talent and economic development strategies; and (b) prepare workers for good jobs with career pathways in these rapidly expanding or transforming industries. ETA will broadly disseminate the products, models, and effective approaches that result from HGJTI investments to employers, education and training providers, and the workforce system, building their capacity to respond to employers' workforce needs in high-growth, high-demand industries that are a part of regional economies.

Grant funds awarded under this Solicitation for Grant Applications (SGA) should be used to implement and replicate high-impact, industry-driven training solutions that address identified workforce challenges in the energy industry or in the construction and skilled trade occupations that support the energy industry. Each solution must take place in the context of a regional talent development strategy designed to contribute to a strong regional economy. The solutions must be developed and implemented by a strategic regional partnership, which includes leaders from the workforce investment system, business and industry, and the education and training community, as well as other public and private sector partners that bring critical assets to the joint venture. Proposed solutions should take full advantage of existing workforce development models, promising practices, and tools. Solutions must implement an existing promising solution, model, or approach and take it to scale in the region, or adapt a solution that has been demonstrated to have positive impact on the identified workforce development challenges in another region.

Applicants may be public, private for-profit, or private non-profit organizations. It is anticipated that average individual awards will fall within the range of $500,000 to $1 million.

Addresses: Mailed applications must be addressed to the U.S. Department of Labor, Employment and Training Administration, Division of Federal Assistance, Attention: Ariam Ferro, Grants Management Specialist, Reference SGA/DFA PY-07-07, 200 Constitution Avenue, NW., Room N4716, Washington, DC 20210. Applicants may alternatively apply online through Grants.gov (http://www.grants.gov) and further information about applying online can be found in Part IV (3) of this solicitation. Telefacsimile (FAX) applications will not be accepted. Applicants are advised that U.S. Postal Service mail delivery in the Washington area may be delayed due to mail decontamination procedures. Hand delivered proposals will be received at the above address.

Supplementary Information: This solicitation consists of eight parts:

• Part I provides the funding opportunity description: It contains background information on the HGJTI and workforce challenges facing the energy sector, including the shortage of construction and skilled trade workers; describes ETA's approach to talent development in the context of regional economies; and provides a description of the critical elements for this solicitation.

• Part II describes the award amount and performance period of the award.

• Part III describes eligible applicants and other grant specifications.

• Part IV provides information on the application and submission process and various funding restrictions.

• Part V describes the criteria against which applications will be reviewed and explains the proposal review and selection process.

• Part VI provides award administration information.

• Part VII contains ETA agency contact information.

• Part VIII lists additional resources of interest to applicants and other information.

Part I. Funding Opportunity Description

1. The President's High Growth Job Training Initiative: Investing in Regional Sector-Based Talent Development Strategies To Support Strong Regional Economies

In the 21st Century global economy, talent development is a key factor in our nation's economic competitiveness. While global competition is typically seen as a national challenge, regions are where companies, workers, researchers, entrepreneurs and governments partner and leverage resources to create the competitive advantages required in the global marketplace. Those advantages stem from the ability to transform new ideas and new knowledge into advanced, high quality products or services. Regions that are successful in creating a competitive advantage demonstrate the ability to organize people, institutions, capital and infrastructure in a way that generates growth and prosperity in the region's economy. In the new global economy, a region's ability to develop, attract, and retain a well-educated and skilled workforce is a key factor in our nation's economic competitiveness. This understanding of the role of talent in regional economies is helping to shape new models of workforce development in which the workforce system acts as a strategic partner in regional economic development.

To maximize the impact of talent development activities requires strong strategic partnerships composed of individuals and organizations that act in concert to transform the regional economy, including: The workforce investment system; employers; educators and training providers; economic development entities; local, regional, and state government; the philanthropic community; faith-based and community organizations; research institutions; and other civic leaders with a stake in economic growth and talent development. These strategic partnerships should focus on systemic solutions that address short-term challenges while contributing to long-term talent development and economic growth.

A regional approach to talent development brings together all the key players in a region to leverage their collective public and private sector assets and resources, and to devise strategies that focus on infrastructure, investment, and talent development. It incorporates demand-driven skills development into the region's larger economic development, and education efforts into a comprehensive system that is both flexible and responsive to the needs of business and workers.

ETA has modeled the role of strategic partnerships in demand-driven workforce investment through the HGJTI. Through the HGJTI, ETA identifies high-growth, high-demand industries; evaluates their skill needs; and funds local and national partnership-based demonstration projects that provide workforce solutions to ensure that individuals can gain the skills to get good jobs with career pathways in rapidly expanding or transforming industries. Many early HGJTI investments focused on individual solutions in the context of small local partnerships. Over time, ETA has expanded that model in several ways. Through the Community-Based Job Training Grants, ETA is building the capacity of the nation's community college system to play a critical role in talent development. Through the Workforce Innovation in Regional Economic Development (WIRED) initiative, ETA supports broad regional partnerships as they expand employment and advancement opportunities for American workers and catalyze the creation of high-skill and high-wage opportunities in the regional economies.

Based on lessons learned in all three of these funding initiatives, ETA is using this funding opportunity to build on individual solutions developed for the energy industry and related skilled trades sector and connecting those solutions to regional economies. ETA's WIRED initiative is currently modeling this approach to regional talent development, through a strategic framework that provides step by step instructions to regions. More information and tools to help implement your project using the WIRED strategic framework can be found at: http://www.doleta.gov/WIRED.

2. Meeting the Demand for a Skilled Workforce in the Energy Industry

The energy industry comprises 4 percent of total Gross Domestic Product (GDP) and employs over one million workers nationwide. ETA has identified the energy industry as a high growth industry on the basis of projected demand for workers, the vital role it plays in the U.S. economy, and because rapid technological change requires workers to have increasingly sophisticated skills. Businesses involved in the energy industry are among the most ubiquitous in our economy. They obtain the resources necessary to create energy, process or use it as necessary, and deliver energy to all of us, whether it is fuel for our vehicles or power to light our homes and workplaces. The energy industry's share of U.S. GDP is only the beginning of its influence on the U.S. economy. Without access to sufficient supplies of affordable energy, every other sector of the U.S. economy would grind to a halt. Therefore, a well-trained energy workforce is not an energy-industry specific problem only, but it is also vital to the nation's economic security.

The workforce dynamics within the energy industry vary by sector. Industry representatives typically speak of four broad sectors within the energy industry: (1) Oil and natural gas; (2) mining; (3) electric; and (4) renewable energy. Although renewable energy can be considered an independent sector, renewable energy technologies are becoming prevalent in most sectors of the energy industry as well as in other industries such as manufacturing and construction. Likewise, nuclear energy is often classified as a fifth sector by itself because the regulatory framework within which it operates, among several other factors, distinguishes it from the rest of the electric power industry. The Bureau of Labor Statistics (BLS) takes a slightly different view of the energy industry, and differentiates utilities, mining, and oil and gas extraction as independent industries. For the purposes of this SGA, the term energy industry refers to all five of the sectors described above.

The energy industry faces significant hiring and training challenges. Impending incumbent worker retirements and other attrition, coupled with inadequate numbers of new workers entering occupations in the industry, necessitate the development and implementation of effective strategies for recruiting and training new workers, and upgrading the skills of existing workers.

To understand the workforce challenges facing the energy industry and construction and skilled trades in the energy industry, ETA convened a series of meetings over the past three years, working closely with energy representatives, construction companies, education, the public workforce system, labor management organizations, and other Federal and state agencies. Through a series of Executive Forums, key energy industry stakeholders identified workforce challenges in five categories: (1) Pipeline development; (2) career awareness and outreach; (3) availability and capacity of education and training programs; (4) entry-level skill development; and (5) incumbent workers skill development. The following challenges were identified as the most critical by industry leaders:

• Employers expect that up to half of their current workers will retire over the next 5 to 10 years.

• Misperception of energy careers as unstable, dirty, and low-skilled causes qualified workers, especially youth, to be unaware of the many highly skilled, good-paying career opportunities.

• Many training programs were scaled back or closed due to a downturn in the industry in the late 1980s and early 1990s. Programs have not ramped up at the same rate as the industry's need has rebounded.

• Employers in all sectors of the industry need workers who are more proficient in math, science, and, especially, technology than workers in the past.

• Creative solutions are necessary to help experienced workers, who will be retiring, transfer their knowledge and skills to their replacements and to help new workers gain necessary skills as quickly as possible.

• Few industry-defined, portable credentials have been developed in the energy industry. Additionally, there is a need to develop career ladders that clearly demonstrate the career growth potential within the industry.

Based on solutions identified during several Executive and Workforce Forums, ETA awarded a series of grants under the HGJTI that addressed the above challenges through unique and innovative industry-driven skills training, certification and career ladder development programs. A full description of these investments, as well as a report detailing ETA's engagement with the energy sector, is available at: http://www.doleta.gov/BRG/Indprof/Energy.cfm. These initial investments resulted in curricula, outreach materials, and other products, models, and best practices that are now publicly available on the Web at: http://www.workforce3one.org.

Growth within the energy industry is further constrained by a shortage of construction and skilled trade workers who build new infrastructure, install equipment, operate facilities, and make repairs. A number of occupations and job titles are impacted by this shortage, including the following: boilermaker, carpenter, chemistry technician, electrician, heavy equipment operator, lineworker, millwright, pipefitter, quality control technician, and welder.

To help improve the pipeline of construction and skilled trade workers in the energy industry, ETA convened an Energy Skilled Trades Summit in August, 2007. Held in conjunction with industry associations, the summit was designed to address the workforce shortages projected specifically for the southeastern United States over the next twenty years. The objectives of the Summit were to: (1) Raise awareness about the looming skilled craft shortage and its impact on the energy industry's infrastructure improvement efforts; (2) increase synergy among the private sector and the workforce development, economic development, and education systems; and (3) strengthen U.S. national economic and energy security by identifying strategies to ensure American workers have the skills necessary to build and maintain the next generation of energy infrastructure. State teams attended the Summit and worked to develop action plans to address the workforce challenges facing the industry and achieve the following:

• Raise awareness about the looming construction labor shortage and its impact on the energy industry's infrastructure improvement efforts;

• Elevate the image of skilled crafts careers;

• Implement performance-based education and training programs for skilled craft workers in high schools, post-secondary schools, and the public workforce system;

• Recruit from untapped labor pools to educate and train for construction and energy workforce needs;

• Align investments and workforce development initiatives to ensure collaboration in the development of a national skilled trades workforce; and

• Build state partnership teams that promote talent and economic development based on asset and resource mapping strategies.

More information about the Energy Skilled Trades Summit, including extensive resources on workforce challenges facing the construction and skilled trades in the energy industry, as well as a draft competency model for the energy industry, is available at: http://www.workforce3one.org/content/public/esummit.cfm.

This SGA is designed to help regions address workforce challenges facing the energy industry and the construction and skilled trades in the energy industry as discussed in this section. ETA is seeking to fund proposals that build on demonstrated models and promising practices and make use of existing products, models, and curricula to meet the specific needs of regional economies through training and other activities.

3. Critical Elements of High Growth Grants for the Energy Industry and Related Skilled Trades

Grants funded under this Solicitation are expected to contain at least six critical elements. These elements consist of: (A) Strategic regional partnerships; (B) systemic solutions to industry-identified workforce challenges; (C) connections to regional economic and talent development strategies; (D) shared and leveraged resources; (E) clear and specific outcomes; and (F) clear strategies for sustainability beyond the Federal investment. Each of these characteristics will be reflected in the ratings criteria in Part V and is described in further detail below.

A. Strategic Regional Partnerships

Experience has shown—through ETA's work in WIRED regions—that workforce development strategies are most robust when developed in the context of a strategic partnership comprised of a strong team of regional leaders that have access to a range of resources and assets suited to the proposed strategy. For the purposes of this SGA, one or more representative of the workforce system (i.e., state and/or local workforce boards and One-Stop Career Centers), employers, and education and training providers are required partners. In addition to the required entities, the partnership should think beyond geographical and physical boundaries to ensure that the full range of assets, resources, knowledge, and leadership are engaged in the project, and that the partnership includes entities that can act as levers of change to identify and address barriers to success.

The basis of partnership engagement and activity should be a data-driven analysis of workforce development challenges and the regional assets available for solutions. While the activities proposed under this Solicitation may be an important component of the partnership's work, the partnership should have a broader focus on the workforce challenges facing the energy industry and related skilled trades sector, and should be working collaboratively to identify and implement a wide range of solutions.

Partners should have a demonstrated record of close collaboration and coordination. If a high level of collaboration or coordination does not exist, applicants must demonstrate their capacity to quickly establish these links and discuss strategies for strengthening the partnership. Applicants are advised that grant funds may not be used for partnership development.

In order to further support regions that are seeking to transform their economies and enhance their global competitiveness through talent development, these partnerships need to be substantial and sustainable. ETA encourages partners to plan for the partnership's sustainability beyond the HGJTI investment period to enable ongoing assessment of industry workforce needs and collaborative development of solutions on a continual basis.

Within the context of the broader strategic partnership and as it relates to the HGJTI, each collaborative partner should have clearly defined roles. The exact nature of these roles may vary depending on the issue areas being addressed and the scope and nature of the activities undertaken. However, ETA expects that each collaborative partner will, at minimum, significantly contribute to one or more aspects of the project. For example, employers must be actively engaged in the project and may contribute to many aspects of grant activities such as defining the program strategy and goals, identifying needed skills and competencies, and, where appropriate, hiring qualified training graduates. Education and training providers from the continuum of education (including K-12, community and technical colleges, four year colleges and universities, apprenticeship, and other training entities) should assist in developing industry-driven workforce education strategies in partnership with employers including competency models, curricula, and new learning methodologies.

The workforce investment system may play a number of roles, including identifying and assessing candidates for training, providing wrap-around support services and training funds for qualified individuals, where appropriate, and connecting qualified training graduates to employers that have existing job openings.

Partnerships with faith-based and community organizations are also encouraged. Grantees may elect to sub-award funds to faith-based and community organizations to perform a variety of grant services such as case management, mentoring, and English language programs, among others. Faith-based and community organizations can also provide wrap-around holistic and comprehensive support services, where appropriate. Please note, however, that identifying an organization as a partner does not waive applicable source selection requirements (See Part VI. B, NOTE).

B. Systemic Solutions to Industry Identified Workforce Challenges

Grants funded under this SGA should demonstrate how a demand-driven workforce system can more effectively meet the regional workforce needs of energy and skilled trade employers while at the same time helping workers find quality jobs with promising career pathways. Proposed solutions should be focused and integrated, and should be driven by an accurate and comprehensive understanding of regional, industry-identified workforce challenges and the educational, workforce, and other assets available to support solutions.

Applicants should note that grants under this SGA are not intended to support the development of entirely new solutions for workforce challenges in the energy industry and/or related skilled trade sector. Rather, these grants are intended to support partnerships that either: (a) Take an existing promising solution, model, or approach to scale in the region; and/or (b) adapt a solution, model, or approach that has been demonstrated to have positive impact on the identified workforce challenges in another region or context. Many public and private partners have been developing solutions to workforce challenges and grants funded under this SGA should demonstrate an understanding of that growing body of knowledge. Models or promising practices proposed to be implemented must be evidence-based and supported by data-driven results. Applicants are not limited in the strategies and approaches they may use to implement solutions provided the strategy is well developed, addresses industry-defined regional workforce challenges, and includes training to prepare entry level and/or incumbent workers for the energy industry or construction and skilled trades in the energy industry. To the extent possible, applicants are encouraged to design training activities that: (a) Occur within the context of workforce education that supports long-term career growth, such as an articulated career ladder and lattice; and (b) result in credentials that are industry-recognized and indicate a level of mastery and competence in a given field or function. Please note that ETA is particularly interested in projects that focus on the workforce challenges described in Part 1.2.

While a range of solutions will be considered for funding, ETA encourages applicants to develop solutions that address one or more of the following areas:

• Career Awareness and Outreach: Applicants are encouraged to submit projects that integrate career awareness and outreach into education and training programs, including job-readiness opportunities, job shadowing and information sessions, and field trips. Career awareness and outreach components should clearly address image-related issues associated with the industry (e.g. working conditions, pay, and opportunities for advancement) and leverage existing industry marketing and campaign efforts, including the development of Web sites, videos, podcasts, print and multimedia materials, television ads, and other promotional materials.

• Building Education and Training Capacity: Applicants are encouraged to submit projects that enhance the capacity and/or capability of secondary schools, community colleges, proprietary training providers, labor-management organizations, and/or other education and training providers that serve the skilled trade occupations related to energy and/or the energy industry. To the greatest extent possible, applicants should leverage existing curricula and training or certification programs that have demonstrated results. If existing curricula do not meet regional needs, applicants should clearly explain why. Applicants are also encouraged to submit projects that include strategies for facilitating knowledge transfer among incumbent workers or increasing their technical skills or soft skills, and result in demonstrated career ladder progression during the term of the grant. Applicants are also encouraged to utilize technology-based and distance learning models in their education and training programs. Technology-Based Learning (TBL) is transforming the way people learn and can increase the geographic reach of training. TBL can be defined as the learning of content via all electronic technology, including the Internet, intranets, satellite broadcasts, audio and video tape, video and audio conference, Internet conferencing, chat rooms, bulletin boards, Web casts, computer-based instruction and CD-ROM. It encompasses related terms, such as online learning, Web-based learning, computer-based learning and e-learning. For example, a college may convert industry-specific curricula typically offered in traditional classroom settings to technology-based learning (e-learning or online) or develop technology-based learning training programs so that dislocated workers, incumbent workers, and/or new job entrants can access training at any time.

• Untapped Pools of Labor: Applicants are encouraged to submit projects that address the recruitment of non-traditional labor pools and include both outreach and preparation strategies, partnerships with community or faith-based organizations or other experienced providers with expertise in working with non-traditional labor pools, and mentorships or other types of support services. Examples of non-traditional labor pools include dislocated workers, individuals with disabilities, women, veterans, military spouses, ex-offenders, new Americans, and out-of-school and at-risk youth who are eligible to work. Projects that serve youth should align with ETA's Youth Vision, where appropriate. Information on ETA's Youth Vision can be found in the Training and Employment Guidance Letter (TEGL) No. 28-05 (http://wdr.doleta.gov/directives/corr_doc.cfm?DOCN=2224).

C. Connections to Regional Economic and Talent Development Strategies

Proposed solutions should not be developed in isolation. Rather, to the greatest extent possible, partnership activities and proposed solutions should be aligned with and integrated into the region's broader talent development and economic development strategies and applications will be evaluated on the extent to which such integration is demonstrated. Applicants should clearly indicate alignment and integration, and indicate how the regional strategic partnership working to design and implement the proposed solution is connected to the broader regional strategic talent and economic growth agenda for the region.

D. Shared and Leveraged Resources

HGJTI investments leverage funds and resources from key entities in the strategic partnership. Leveraging resources in the context of strategic partnerships accomplishes three goals: (1) It allows for the pursuit of resources driven by the strategy; (2) it increases stakeholder investment in the project at all levels including design and implementation phases; and (3) it broadens the impact of the project itself. Applications will be scored based on the quality and the degree to which the source and use of leveraged funds are clearly explained and the extent to which they are integrated into the project in support of grant outcomes. Detailed information about the evaluation criteria are found in Part V, 1F.

Leveraged resources include both Federal and non-federal funds and may come from many sources. Businesses, faith-based and community organizations, economic development entities, education systems, and philanthropic foundations often invest resources to support workforce development. In addition, other Federal, state, and local government programs may have resources available that can be integrated into the proposed project. Examples of such programs include other DOL programs such as registered apprenticeship and Job Corps, as well as One-Stop partner programs funded by other Federal agencies, such as Vocational Rehabilitation and Adult Education. ETA encourages HGJTI grantees and their partners to be entrepreneurial as they seek out, utilize, and sustain these resources when creating effective solutions to the workforce challenges identified by the industry.

Applicants are encouraged to submit projects that leverage existing investments. These investments may be active within the region, such as those from ETA funding sources, including WIRED regional funding, Community-Based Job Training Grants and HGJTI funds, or Workforce Investment Act formula funds, or may come from other government, private sector, or philanthropic sources. Applicants are also encouraged to leverage existing investments in products, models, or tools that may be of use in the regional strategy.

E. Clear and Specific Outcomes

HGJTI grants are fundamentally results-oriented and grantees are expected to demonstrate clear and specific outcomes that indicate progress towards addressing the workforce challenges identified by the partnership and that are appropriate to the nature of the solution and the size and scope of the project. Since HGJTI grants result in customized strategies to address local workforce challenges and skill shortages, ETA recognizes that specific outcomes will vary from project to project based on the specific activities proposed by applicants. HGJTI applicants should demonstrate the effectiveness of proposed activities by creating appropriate benchmarks and measuring against them on a regular basis.

• Training Outcomes: Training outcomes will include quarterly and cumulative reports on the projected outcomes that include, but are not limited to: enrollment, number completed training, number of certificates awarded, ETA's Common Measures, number entered into employment related to training; and number receiving wage gains and promotions.

ETA's Common Measures, which are uniform evaluation metrics for job training and employment programs and are an integral part of ETA's performance accountability system. The Common Measures for adults include: (1) Entered employment, (2) job retention, and (3) average earnings increase. For youth, the Common Measures include: (1) Placement in employment or education, (2) attainment of a degree or certificate, and (3) measurable literacy and numeracy gains. The value of implementing Common Measures is the ability to describe the core performance of the workforce system and its partners: how many people found jobs; did they stay employed; and what did they earn. In the recent past, multiple sets of performance measures have burdened states and grantees, as they have required the reporting of performance outcomes based on varying definitions and methodologies. By minimizing the different reporting and performance requirements, common performance measures can facilitate the integration of service delivery, reduce barriers to cooperation among programs, and enhance the ability to assess the effectiveness and impact of the workforce investment system across programs. A detailed description of ETA's policy on the Common Measures can be found in the Training and Employment Guidance Letter (TEGL) No. 17-05 (http://wdr.doleta.gov/directives/attach/TEGL17-05.pdf). A basic list of Common Measures is provided as attachment A to TEGL No. 17-05, (http://wdr.doleta.gov/directives/attach/TEGL17-05_AttachA.pdf).

ETA is in the process of developing a standard set of reporting requirements for the HGJTI. Upon issuance, ETA will require grantees to submit standardized quarterly reports summarizing the number and types of participants served by grantees, the number of exiters, the number of participants engaged in training activities, and some participant outcomes including common measures. To calculate the common measures for each grantee and for the program as a whole, ETA will require grantees to submit quarterly participant records for exiters that contain the minimum number of elements needed to calculate the common measures. By matching these records wage record information through the Wage Record Interchange System (WRIS), ETA will compute results for common measures on behalf of grantees. These reports and records will help ETA gauge the effectiveness of the HGJTI, identify grantees that could serve as useful models, and target technical assistance appropriately. A copy of the full proposed reporting package can be viewed at: http://www.doleta.gov/OMBCN/OMB_1205-0NEW_20070530.cfm.

Please note that the Common Measures provide only part of the information necessary to oversee HGJTI grants effectively. In addition to Common Measures, grantees will be required to report the number and types of credentials awarded to trainees, if appropriate. HGJTI grant recipients may also have additional outcome measures appropriate to their project.

• Capacity Building Outcomes: Grantees will be required to report on the status of all capacity building activities under the grant, if applicable; how the activity is linked to the specific training supported under the grant; and, if appropriate, the impact of the capacity building activity, including the exact methodology with operational parameters of how the impact measure is calculated. An example of a capacity building activity where it is appropriate to report impact is for teacher professional development/train-the-trainer activities, in which there are no employment related outcomes for those being trained but grant activities affect other individuals. For example, a grantee uses grant funds to train 10 teachers to work as instructors at a youth summer camp. Then, through the summer, those 10 teachers provide instruction to 100 students. The impact of this teacher professional development capacity building activity is 100, representing the 100 students impacted by the 10 teachers.

Another area where it is appropriate to report impact is career awareness activities. For example, a grantee uses grant funds to develop a Web site to let youth and job changers know about careers in the energy industry as well as its training program. This Web site has 100 unique user visits each month over a three month period. The impact of the Web site for this three month period is 300, based on the total number of unique visits to the Web site. Grantees can use a similar methodology to calculate the impact of other types of career awareness activities, such as the impact of a recruiting seminar attended by job seekers and the impact of brochures distributed at an industry-related career awareness program for youth. Please note that capacity building outcomes and impacts of the proposed project should satisfactorily address the industry-identified workforce need and the capacity constraint identified by the applicant.

Applicants must clearly describe all products, models, curricula, etc. that will be customized or acquired with federal funds through the grant and indicate the impact of the capacity building activity (e.g. the number of participants or entities who will benefit from the proposed activities).

ETA will continue to collect from HGJTI grantees data on spending, program activities, participants, and outcomes that are necessary for program management to convey the full and accurate information on the performance of this program to policy makers and stakeholders.

F. Clear Strategies for Sustainability Beyond the Federal Investment

The HGJTI investment should be considered seed funding. Therefore, HGJTI grantees should develop strategies to sustain the project or related partnership activities after the Federal investment ends. Financial resources are an important part of any sustainability strategy; however, they are not the only component. Sustainability is also strengthened by the partnerships formed before and during the grant term; systems, strategies, and processes put in place during the grant period; and the experience gained through implementing a HGJTI grant. All of these may provide the foundation for developing long-term systemic solutions to workforce challenges in high-growth, high-demand industries.

4. Use of Funds/Allowable Activities

Grants funded under this SGA will be funded by H-1B fees as authorized under Section 414(c) of the American Competitiveness and Workforce Improvement Act of 1998 (Pub. L. 105-277, title IV) as amended by Public Law 108-447 (codified at 29 U.S.C. 2916a). These funds are focused on the development of the workforce and may be used to provide job training and related activities to workers to assist them in gaining the skills and competencies needed to obtain and upgrade career ladder employment in the energy industry and/or construction and skilled trades related to the energy industry. Funds available under this Solicitation may only be used for projects that provide training in the occupations and industries for which employers use H-1B visas that generate these funds and the related activities limited to those necessary to support training in such occupations and industries. The training investments under the SGA must focus on high skilled occupations or occupations requiring significant science, engineering, technology, and math skills. Funds may also be used to enhance the provision of job training services and information as authorized in 29 U.S.C. 2916(a)(2)(B).

Part II. Award Information

1. Award Amount

ETA intends to fund to projects ranging from $500,000 to $1 million; however, this does not preclude funding grants at either a lower or higher amount, or funding a smaller or larger number of projects, based on the type and the number of quality submissions. Applicants are encouraged to submit budgets for quality projects at whatever funding level is appropriate to the project. Nevertheless, applicants should recognize that the funds available through this solicitation are designed to complement additional leveraged resources rather than be the sole source of funds for the proposal.

Applicants should note that selection of an organization as a grantee does not constitute approval of the grant application as submitted. Before the actual grant is awarded, DOL may enter into negotiations about such items as program components, staffing and funding levels, and administrative systems in place to support grant implementation. If the negotiations do not result in a mutually acceptable submission, the Grant Officer reserves the right to terminate the negotiation and decline to fund the application.

2. Period of Performance

The period of grant performance will be up to 36 months from the date of execution of the grant documents. This performance period shall include all necessary implementation and start-up activities as well as participant follow-up for performance outcomes and grant close-out activities. A timeline clearly detailing these required grant activities and their expected completion dates must be included in the grant application. If applied for, and with significant justification, ETA may elect to exercise its option to award no-cost extensions to these grants for an additional period at its own discretion, based on the success of the program and other relevant factors.

Part III. Eligibility Information

1. Eligible Applicants

Applicants may be public, private for-profit, or private non-profit organizations, including faith-based and community organizations. The application must clearly identify the applicant and describe its capacity to administer the HGJTI grant, in terms of both organizational capacity and data management capabilities. Please note that the applicant and fiscal agent must be the same organization. Applications to supplement existing projects are eligible for consideration under this SGA; however, applications for renewal of existing projects will not be considered. For example, a renewal of an existing project would continue the activities and outcomes from a prior grant with no changes. Supplementing an existing or previous project would add substantive new activity components and outcomes.

2. Cost Sharing

Cost sharing or matching funds are not required as a condition for application, but leveraged resources are strongly encouraged and failure to commit and integrate leveraged resources into the project may have a significant impact on an applicant's ability to successfully compete for grant funds. Applications will be scored based on the quality and the degree to which the source and use of leveraged funds are clearly explained, and the extent to which they are integrated into the project in support of grant outcomes. As described in Part V.1., up to 10 points are available for this criterion.

3. Other Eligibility Requirements

A. Demonstrated Partnerships

To be considered for funding under this SGA, the applicant must demonstrate that the proposed project will be implemented by a robust strategic partnership that is regional in nature, as defined by the applicant, and that leveraged resources of the full partnership are in support of the proposed strategy. The partnership must include at least one entity from each of three categories: (1) The workforce investment system, which may include state and local workforce investment boards, state workforce agencies, and One-Stop Career Centers and their partners; (2) the education and training community, which includes the continuum of education from K-12 to community and technical colleges, four year colleges and universities, apprenticeship, and other training entities; and (3) employers and industry-related organizations such as trade associations and labor-management organizations. Additional partners that reflect the character and resources of the region are strongly encouraged.

B. Proposed Solutions

There are two requirements associated with solutions that will be funded under this solicitation.

• Building on Existing Models and Promising Practices. This SGA is intended to support workforce development strategies targeting the energy industry and skilled trade occupations related to energy that take full advantage of existing solutions, models, promising practices, and tools while meeting the specific needs and circumstances of the identified region. Therefore applicants must demonstrate that proposed solutions meet at least one of two criteria: (a) The applicant proposes to take an existing promising solution, model, or approach to scale in the region, or (b) the applicant is implementing a solution, model or approach that has been demonstrated to have positive impact on the identified development challenges in another location. To the greatest extent possible, applicants are also encouraged to integrate existing tools and curricula into their proposed grant activities. Applicants should produce outcome information that demonstrates that the approach or model will meet the needs of industry as described in the statement of need.

• Training Workers for Employment in High-Growth Industries. All grants funded under this solicitation must include the direct provision of training to individual participants. Applicants are not limited in the strategies and approaches they may employ to implement training activities; however, the training must: (a) Target skills and competencies demanded by the energy industry and skilled trade occupations related to energy; (b) support participants' long term career growth along a defined career pathway such as an articulated career ladder and lattice; and (c) result in an industry-recognized certificate, degree, or license that indicates a level of mastery and competence in a given field or function. The credential awarded to participants should be based on the type of training provided through the grant and the requirements of the targeted occupation, and should be selected based on consultations with industry partners. For example:

• Customized and short-term training should result in a performance-based certification or certificate. This certification may be developed jointly by employers and the project partners, based on defined knowledge and skill requirements for specific high-growth occupations. Performance-based certifications may also be based on industry recognized curriculum and standards.

• Training in fields with established professional standards and examinations should result in an industry recognized credential or certification.

• In states where licensure is required for the specific occupation targeted by the training, the credentialing requirement should be set accordingly.

• In some instances, training provided under the HGJTI grant may lead to a degree. In these instances, the credential will be the degree itself or the successful completion of coursework required for the degree.

In addition to the required training strategies, applicants may, but are not required to, propose strategies that build capacity to educate and train workers for jobs within the energy and skilled trades sectors. These proposed capacity building efforts must be directly linked to the specific training supported under the grant, and are expected to address significant barriers that impede the ability of the partnership to meet the energy or skilled trade occupations related to energy industry's demand for workforce training. These strategies should not simply address isolated deficits, but rather provide a comprehensive solution to identified capacity challenges as they relate to the energy industry and the skilled trade occupations related to energy.

C. Replication

ETA is currently pursuing an aggressive national dissemination strategy that focuses on widely and publicly distributing grantee products through a network of stakeholders including education and industry partners, and the public workforce system. The products developed through the HGJTI include but are not limited to curriculum, competency models and career ladders, distance learning tools, career awareness and outreach materials, case studies, program management and implementation tools, reports and databases, creation of industry skill centers, and Web sites. HGJTI grantees are required to submit to ETA products developed with grant funding; these products will be included in ETA's dissemination strategy. For example, CDs with available products will be developed and distributed to appropriate education, workforce, and business and industry association partners. In addition, all of these products will be available online at http://www.workforce3one.org. Workforce3 One offers the public workforce system, employers, economic development professionals, and education professionals an innovative knowledge network designed to create and support demand-driven communities; one that responds directly to business needs and prepares workers for good jobs in the fastest growing careers. By supporting replicable projects that can be implemented in multiple areas and industries, ETA is able to maximize its investment by expanding the grant's impact beyond the initial grant site and helping additional businesses and workers in other regions.

D. Participants Eligible To Receive HGJTI Training

Generally, the scope of potential trainees is very broad. Training may be targeted to a wide variety of populations, including unemployed individuals and incumbent workers. The identification of targeted and qualified trainees should be part of the larger project planning process by the required partnership and should relate to the workforce issue that is being addressed by the training.

E. Veterans Priority

The Jobs for Veterans Act (Pub. L. 107-288) provides priority of service to veterans and spouses of certain veterans for the receipt of employment, training, and placement services in any job training program directly funded, in whole or in part, by DOL. In circumstances where a grant recipient must choose between two equally qualified candidates for training, one of whom is a veteran, the Jobs for Veterans Act requires that grant recipients give the veteran priority of service by admitting him or her into the program. Please note that to obtain priority of service a veteran must meet the program's eligibility requirements. ETA Training and Employment Guidance Letter (TEGL) No. 5-03 (September 16, 2003) provides general guidance on the scope of the Job for Veterans Act and its effect on current employment and training programs. TEGL No. 5-03, along with additional guidance, is available at the “Jobs for Veterans Priority of Service” Web site: http://www.doleta.gov/programs/vets.

Part IV. Address To Request Application Forms

1. Address To Request Application Package

This SGA contains all of the information and links to forms needed to apply for grant funding.

2. Content and Form of Application Submission

The proposal must consist of two (2) separate and distinct parts: Part I, the Cost Proposal and Part II, the Technical Proposal. Applications that fail to adhere to the instructions in this section will be considered non-responsive and may not be given further consideration. Please note that it is the applicant's responsibility to ensure that the funding amount requested is consistent across all parts and sub-parts of the application.

Part I of the proposal is the Cost Proposal and must include the following two items:

• The Standard Form (SF) 424, “Application for Federal Assistance” available at: http://www.doleta.gov/sga/sga.cfm.

• Upon confirmation of an award, the individual signing the SF 424 on behalf of the applicant shall be considered the Authorized Representative of the applicant. All applicants for Federal grant and funding opportunities are required to have a Dun and Bradstreet (DUNS) number. For more information about the DUNS number, see OMB Notice of Final Policy Issuance, 68 FR 38402 (June 27, 2003). Applicants must supply their DUNS number on the SF 424. The DUNS number is a nine-digit identification number that uniquely identifies business entities. Obtaining a DUNS number is easy and there is no charge. To obtain a DUNS number, access this Web site: http://www.dunandbradstreet.com or call 1-866-705-5711.

• The Standard Form (SF) 424A Budget Information Form (available at http://www.doleta.gov/sga/forms.cfm). In preparing the Budget Information Form, the applicant must provide a concise narrative explanation to support the request. The budget narrative should break down the budget and corresponding leveraged resources by deliverable, making clear distinctions between training and (if any) capacity building costs, and should discuss precisely how the administrative costs support the project goals. All applicants should indicate training costs-per-participant by dividing the total amount of the budget designated for training by the number of participants trained. Please note that applicants that fail to provide an SF 424, SF 424A and a budget narrative will be removed from consideration prior to the technical review process. If the proposal calls for integrating WIA or other Federal funds or includes other leveraged resources, these funds should not be listed on the SF 424 or SF 424A Budget Information Form, but should be described in the budget narrative and in Part II of the proposal. The amount of Federal funding requested for the entire period of performance (up to 36 months) should be shown together on the SF 424 and SF 424A Budget Information Form. Applicants are also encouraged, but not required, to submit the OMB Survey No. 1890-0014: Survey on Ensuring Equal Opportunity for Applicants, which can be found at: http://www.doleta.gov/sga/forms.cfm.

Part II of the application is the Technical Proposal, which demonstrates the applicant's capabilities to plan and implement the HGJTI grant project in accordance with the provisions of this solicitation, and includes a project description as described in the Criteria section of this solicitation.

The project description is limited to twenty (20) double-spaced, single-sided, 8.5 inch x 11 inch pages with 12 point text font and one-inch margins. Any pages over the 20 page limit will not be reviewed. The applicant may provide additional information, such as resumes, a staffing pattern, statistical information, general letters of support and related material in attachments, which may not exceed fifteen (15) pages. Any additional information in attachments beyond the 15 page limit will not be reviewed. The required letters of commitment from partners help demonstrate a firm commitment to the project through the provision of expertise and/or resources and must be submitted as attachments. These letters of commitment will not count against the allowable maximum page totals. Please note that applicants should not send letters of commitment or support separately to ETA because letters are tracked through a separate system and will not be attached to the application for review. The applicant must clearly reference any partners in the text of the Technical Proposal. Except for the discussion of any leveraged resources to address the evaluation criteria, no cost data or reference to prices should be included in the Technical Proposal. The following information is required:

• A one-to-two page abstract summarizing the proposed project and applicant profile information including:

• Applicant name;

• Industry focus (energy and the skilled trade occupations related to energy);

• A brief description of the workforce challenges addressed (100 words);

• A brief description of the proposed solution and how it will be different from the original model (approximately 150 words);

• Key partners;

• Funding amount requested;

• Amount of leveraged resources; and

• Number of people trained and other key grant outcomes.

• A table of contents listing the application sections.

• A one-to-two page timeline outlining project activities, including expected start-up, implementation, participant follow-up for performance outcomes, grant close-out and other activities.

Please note that the abstract, table of contents, and timeline are not included in either of the page limits mentioned above. Applicants that do not provide Part II of the application will be removed from consideration prior to the technical review process.

Applications may be submitted electronically on Grants.gov or in hardcopy via mail or hand delivery. These processes are described in further detail in Part IV(C). Applicants submitting proposals in hard-copy must submit an original signed application (including the SF 424) and one (1) ”copy-ready” version free of bindings, staples or protruding tabs to ease in the reproduction of the proposal by DOL. Applicants submitting proposals in hard-copy are also requested, though not required, to provide an identical electronic copy of the proposal on CD-ROM.

3. Submission Date, Times, and Addresses

The closing date for receipt of applications under this announcement is March 25, 2008. Applications must be received at the address below no later than 4 p.m. (Eastern Time). Applications sent by e-mail, telegram, or facsimile (FAX) will not be accepted.

Applications that do not meet the conditions set forth in this notice will not be honored. No exceptions to the mailing and delivery requirements set forth in this notice will be granted.

Mailed applications must be addressed to the U.S. Department of Labor, Employment and Training Administration, Division of Federal Assistance, Attention: Ariam Ferro, Reference SGA/DFA, PY-07-07, 200 Constitution Avenue, NW., Room N4716, Washington, DC 20210. Applicants are advised that mail delivery in the Washington area may be delayed due to mail decontamination procedures. Hand-delivered proposals will be received at the above address. All overnight mail will be considered to be hand-delivered and must be received at the designated place by the specified closing date and time.

Applicants may apply online through Grants.gov (http://www.grants.gov). Any application received after the deadline will not be accepted. It is strongly recommended that before the applicant begins to write the proposal, applicants immediately review the grants.gov Web site to include all frequently asked questions, and initiate and complete the ”Get Started” registration steps at http://www.grants.gov/GetStarted. These steps may take multiple days to complete, and this time should be factored into plans for electronic application submission in order to avoid facing unexpected delays that could result in the rejection of an application as untimely. If submitting electronically through Grants.gov, the application must be submitted as either .doc, .pdf, or .xls files.

Late Applications: Any application received after the exact date and time specified for receipt at the office designated in this notice will not be considered, unless it is received before awards are made, it was properly addressed, and it was: (a) Sent by U.S. Postal Service mail, postmarked not later than the fifth calendar day before the date specified for receipt of applications (e.g., an application required to be received by the 20th of the month must be postmarked by the 15th of that month); or (b) sent by professional overnight delivery service or properly submitted and accepted by Grants.gov to the addressee not later than one working day prior to the date specified for receipt of applications. It is highly recommended that online submissions be completed at least one working day prior to the date specified for receipt of applications to ensure that the applicant still has the option to submit by overnight delivery service in the event of any electronic submission problems. Applicants take a significant risk by waiting to the last day to submit by grants.gov. ”Postmarked” means a printed, stamped or otherwise placed impression (exclusive of a postage meter machine impression) that is readily identifiable, without further action, as having been supplied or affixed on the date of mailing by an employee of the U.S. Postal Service. Therefore, applicants should request the postal clerk to place a legible hand cancellation ”bull's eye” postmark on both the receipt and the package. Failure to adhere to the above instructions will be a basis for a determination of non-responsiveness. Evidence of timely submission by a professional overnight delivery service must be demonstrated by equally reliable evidence created by the delivery service provider indicating the time and place of receipt.

4. Intergovernmental Review

This funding opportunity is not subject to Executive Order 12372, “Intergovernmental Review of Federal Programs.”

5. Funding Restrictions

Determinations of allowable costs will be made in accordance with the applicable Federal cost principles. Disallowed costs are those charges to a grant that the grantor agency or its representative determines not to be allowed in accordance with the applicable Federal cost principles or other conditions contained in the grant. Successful and unsuccessful applicants will not be entitled to reimbursement of pre-award costs.

A. Indirect Costs. As specified in OMB circular Cost Principles, indirect costs are those that have been incurred, for common or joint objectives and cannot be readily identified with a particular final cost objective. In order to utilize grant funds for indirect costs incurred, the applicant must obtain an Indirect Cost Rate Agreement with its Federal cognizant agency either before or shortly after grant award.

B. Administrative Costs. Under the HGJTI, an entity that receives a grant to carry out a project or program may not use more than 10 percent of the amount of the grant to pay administrative costs associated with the program or project. Administrative costs could be direct or indirect costs, and are defined at 20 CFR 667.220. Administrative costs do not need to be identified separately from program costs on the SF 424A Budget Information Form. They should be discussed in the budget narrative and tracked through the grantee's accounting system. To claim any administrative costs that are also indirect costs, the applicant must obtain an indirect cost rate agreement from its Federal cognizant agency.

C. ETA Distribution Rights. Applicants should note that grantees must agree to provide DOL/ETA a paid-up, non-exclusive and irrevocable license to reproduce, publish, or otherwise use for Federal purposes all products developed or for which ownership was purchased under an award, including but not limited to, curricula, training models, technical assistance products, and any related materials, and to authorize them to do so. Such uses include, but are not limited to, the right to modify and distribute such products worldwide by any means, electronically or otherwise.

D. Legal Rules Pertaining to Inherently Religious Activities by Organizations That Receive Federal Financial Assistance. The government is generally prohibited from providing direct financial assistance for inherently religious activities. See 29 CFR Part 2, Subpart D. These grants may not be used for religious instruction, worship, prayer, proselytizing or other inherently religious activities. Neutral, non-religious criteria that neither favor nor disfavor religion will be employed in the selection of grant recipients and must be employed by grantees in the selection of sub-recipients.

E. Use of Funds for Supportive Services. Use of grant funds for supportive services, such as transportation and childcare, is not an allowable cost under this SGA, including funds provided through stipends for such purposes.

F. Salary and Bonus Limitations. In compliance with Public Law 109-234 and Public Law 110-5, none of the funds appropriated in Public Law 109-149, Public Law 110-5, or prior Acts under the heading “Employment and Training” that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in OMB Circular A-133. See Training and Employment Guidance Letter number 5-06 for further clarification: http://wdr.doleta.gov/directives/corr_doc.cfm?DOCN=2262

6. Other Submission Requirements

Withdrawal of Applications

Applications may be withdrawn by written notice at any time before an award is made.

Part V. Application Review Information

1. Evaluation Criteria

This section identifies and describes the criteria that will be used to evaluate the HGJTI grant proposals. These criteria and point values are:

Criterion | Points
A. Statement of Need | 10
B. Strength of Regional Partnerships | 20
C. Strategies and Solutions for Addressing Industry-Identified Workforce Challenges | 25
D. Integration with Regional Economic and Talent Development Strategies | 5
E. Outcomes, Benefits, and Impact | 20
F. Leveraged Resources | 10
G. Program Management and Organization Capacity | 10

A. Statement of Need (10 points)

Applicants must fully demonstrate a clear and specific need for the Federal investment in the proposed activities by: (a) Describing the role of the energy industry and skilled trade occupations related to energy within the regional economy; (b) describing the workforce challenges facing the industry and their impact on specific local or regional economic and workforce conditions; and (c) describing the resource analysis and mapping that has been conducted to date that demonstrates that local or regional resources are not sufficient to address the workforce challenges. If the applicant intends to include capacity building activities as part of the proposal, this section must also include a detailed discussion of the capacity challenges the community or region faces that limit its ability to provide sufficient quantity or quality of training to meet the identified workforce needs. In addition, applicants should provide evidence that the workforce challenges to be addressed by the grant were identified in the context of the regional talent development strategy in support of economic growth.

Applicants may draw from a variety of resources for supporting data, including: Traditional labor market information, such as projections; industry data; trade associations or direct information from the regional industry; and information on the regional economy and other transactional data, such as job vacancies, that are available. Applicants may also include information collected directly from energy industry employers and representatives. Discussion should include, but is not limited to, the following:

• Demonstrated knowledge of the energy industry and skilled trade occupations related to the energy industry in the regional area, including the impact of the industry on the local or regional economy.

• Demonstrated through data the existence of identified workforce challenges and, if capacity building activities are proposed, demonstrated existence of a capacity constraint in addressing those challenges, in the area in which the grant activity will take place.

• Discussion of how the industry workforce challenges affect the specific employer partners contained in the proposal.

• Description of the economic analysis and resource mapping used to demonstrate need for the Federal investment in identified region and identification of the sources of data used in analyses.

B. Strength of Regional Partnerships (20 points)

The applicant must fully demonstrate that the proposed grant activities were developed and will be implemented by a strategic partnership comprised of a strong team of regional leaders. The partnership must be representative of the entire region as defined by the applicant and have the authority to drive the proposed investment strategy. The proposed partnership must include at least one entity from each of three categories: (1) The workforce investment system; (2) education and training providers such as community colleges; and (3) employers and industry representatives. Applicants must also demonstrate that additional partners have been brought to the table to ensure that the full range of assets, resources, knowledge, and leadership are engaged in the project, and that the partnership includes entities that can act as levers of change to identify and address barriers to success.

Points for this criterion will be awarded based on the following factors:

• Comprehensiveness of the Partnership (15 points). The applicant must identify the partners and explain the meaningful role each partner will play in the project. Points for this factor will be awarded based on:

• A comprehensive list of strategic partners that will be included in the project and the articulation of each partner's role in the project within an overall project governance structure. Please note that in order to receive full points applicants must fully demonstrate that each required partner will play a well-developed and committed role in the project. (6 points)

• Demonstration that the partnership includes the key regional assets and institutions necessary to address the identified workforce challenges. If key regional assets and institutions are not currently engaged in the partnership, then the applicant must clearly identify how appropriate organizations or individuals will be brought into the partnership quickly. (9 points)

• Partnership Management (5 points). Points for this factor will be awarded based on evidence that the applicant has the capacity to lead the regional partnership in implementing the initiative. Discussion should include, but is not limited to, the applicant's leadership and staff capacity and experience implementing initiatives of this caliber.

C. Strategies and Solutions for Addressing Industry-Identified Workforce Challenges (25 points)

The applicant must describe the proposed workforce development solution strategy in full, including all solution elements and implementation strategies, how the solutions address the workforce challenges described in the statement of need, and how the proposed solution complements or enhances existing ETA investments in the energy industry and skilled trade occupations related to energy, and other activities undertaken by the partnership. Points for this criterion will be awarded for the following factors:

• Strategy (15 points). Applicants may earn up to 15 points based on evidence that the applicant has developed an effective solution that will address the following objectives:

• The proposed project will address one or more workforce challenges identified by the energy industry and/or skilled trade occupations related to energy through the HGJTI, as discussed in Part I.a of this SGA (2 points).

• The solution models and workforce development approaches that guide the proposed activities have been clearly explained, and their source identified. The applicant explains how the partnership has drawn upon existing tools and approaches in building its solution (2 points).

• The proposed strategy is cohesive in nature and includes training activities that target skills and competencies demanded by the energy industry and skilled trade occupations related to energy and support participants' long-term career growth along a defined career pathway such as an articulated career ladder and lattice. The proposed training activities should lead to an appropriate credential. Where there is no standardized industry credential in place, part of the proposed activity may include working to create such a credential. If the credential targeted by the training project is a certificate or performance-based certification, applicants have either: (a) Demonstrated employer engagement in the curriculum development process; or (b) indicated that the certification will translate into concrete job opportunities with an employer. If there are proposed capacity building activities, the applicant has demonstrated that these activities are broad based, and are clearly integrated with training activities (8 points).

• The applicant has a robust strategy to sustain proposed activities beyond the Federal investment. The approach to sustainability includes strategies for ensuring that: (a) Partnerships will be institutionalized or otherwise continue to be operational after the grant period ends; (b) the systems, strategies, and solutions created and implemented through the grant will be utilized after the grant period ends; and (c) the project or related partnership activities are integrated into broader state and/or local workforce development and/or economic development activities, if appropriate. To receive full points for this sub-element, the applicant must include a discussion of financial resources beyond the Federal investment that will be used to support sustained activities once the grant expires (3 points).

• Implementation Strategy (10 points). Applicants can earn up to 10 points based on evidence that the applicant has a clear understanding of the tasks required to successfully meet the objectives of the grant. Factors considered in evaluating this evidence include: (1) The existence of a strategy that is responsive to the applicant's statement of need and includes specific goals, objectives, activities, and a timeline; (2) the demonstrated feasibility and reasonableness of the timeline for accomplishing all necessary implementation activities, including start-up, capacity building (if applicable) and training activities, participant follow-up for performance outcomes, and grant close-out activities; (3) demonstration that the budget line items are tied to strategy objectives; and (4) the extent to which the budget is justified with respect to the adequacy and reasonableness of resources requested and must be demonstrated throughout the technical proposal.

D. Integration With Regional Economic and Talent Development Strategies (5 points)

Scoring on this criterion will be based on the applicant's ability to demonstrate that their HGJTI project is aligned with and integrated into their region's talent development and economic development strategy. Points for this criterion will be awarded for the following factors:

• Summarizing the region's strategic vision and workforce education strategies in support of talent development and economic growth; and

• Either describing how their capacity building and training solution is part of or complements existing approaches under regional talent development and economic development plans and initiatives; or describing how their proposed project is a catalyst for bringing partners together to begin the analysis and strategic planning in their region.

E. Outcomes, Benefits, and Impact (20 points)

Applicants must demonstrate a results-oriented approach to managing and operating the HGJTI project by fully describing the proposed outcome measures relevant to measuring the success or impact of the project. Scoring on this criterion will be based on the following factors:

• Outcomes (10 points). Applicants may earn up to 10 points for indicating that appropriate outcomes will be tracked as detailed below. Additionally, the description of outcomes must include: (1) Baseline numbers for tracking progress; (2) benchmark outcome goals; and (3) the methods proposed to collect and validate outcome data in a timely and accurate manner.

• Training. Applicants must track training outcome measures that include ETA's Common Measures, such as employment placement numbers and/or earnings gains and retention. Other outcome measures that should be tracked include the number of individuals awarded credentials or degrees, and any other outcome measures specific to the proposed training project. Applications must also identify the type of credential that participants will earn as a result of the proposed training, and the employer-, industry-, vendor-, or state-defined standards associated with the credential.

• Capacity Building. Applicants that have capacity building components in their projects must clearly describe all products, models, curricula, etc., that will be developed or acquired with Federal funds through the grant and indicate the number of participants or entities who will benefit in either the short and/or long term, from the proposed activities. Applicants must describe the data measures that will be used to measure how the proposed capacity building activities impact the ability of entities to train workers for skills in demand by the energy industry and skilled trade occupations related to energy.

• Appropriateness of Outcomes (10 points). Applicants may earn up to 10 points based on three factors: (1) The extent to which the expected project outcomes are clearly identified and measurable, realistic, and consistent with the objectives of the project; (2) the ability of the applicant to achieve the stated outcomes within the timeframe of the grant; and (3) the appropriateness of the outcomes with respect to both the extent of the workforce challenge described in the statement of need and the requested level of funding.

F. Leveraged Resources (10 points)

Applicants must clearly describe any funds and resources leveraged in support of grant activities and demonstrate how these funds will be used to contribute to the goals of the project. This applies to funds leveraged from businesses, faith-based and community organizations, economic development entities, education systems, philanthropic foundations, and/or Federal, state, and local government programs, including WIA, Trade Adjustment Assistance, and Wagner-Peyser.

Scoring on this factor will be based on the extent to which the applicant fully describes the amount, commitment, nature, and quality of leveraged resources. Important elements of the explanation include:

• Evidence, such as letters of commitment or memorandums of understanding (MOUs), that key partners have expressed a clear commitment to provide the resource;

• The nature and quality of the leveraged resources and a description of how each contribution will support the proposed grant activities; and

• The strategic value of the leveraged resources and how well these resources support the proposed grant activities and the goal of this grant solicitation to demonstrate how a demand-driven workforce system can more effectively meet the regional workforce needs of energy and skilled trade employers while at the same time helping workers find quality jobs with promising career pathways.

G. Program Management and Organization Capacity (10 points)

To satisfy this criterion, applicants must describe their proposed project management structure including, where appropriate, the identification of a proposed project manager, discussion of the proposed staffing pattern, and the qualifications and experience of key staff members. Applicants must also show evidence of the use of data systems to track outcomes in a timely and accurate manner. The applicant must include a description of organizational capacity and the organization's track record in projects similar to that described in the proposal and/or related activities of the primary partners.

Scoring under this criterion will be based on the extent to which applicants provide evidence of the following:

• The time commitment of the proposed staff is sufficient to ensure proper direction, management, and timely completion of the project;

• The roles and contribution of staff, consultants, and collaborative organizations are clearly defined and linked to specific objects and tasks;

• The background, experience, and other qualifications of the staff are sufficient to carry out their designated roles; and

• The applicant organization has significant capacity to accomplish the goals and outcomes of the project, including the ability to collect and manage data in a way that allows consistent, accurate, and expedient reporting.

2. Review and Selection Process

Applications for the HGJTI grants under this solicitation will be accepted after the publication of this announcement until the closing date. A technical review panel will make careful evaluation of applications against the criteria. These criteria are based on the policy goals, priorities, and emphases set forth in this SGA. Up to 100 points may be awarded to an application, based on the required information described in Part V(1.). The ranked scores will serve as the primary basis for selection of applications for funding, in conjunction with other factors such as urban, rural, and geographic balance; balance across industry sub-sectors; the availability of funds; and which proposals are most advantageous to the government. The panel results are advisory in nature and not binding on the Grant Officer, and the Grant Officer may consider any information that comes to his/her attention. The government may elect to award the grant(s) with or without discussions with the applicants. Should a grant be awarded without discussions, the award will be based on the applicant's signature on the SF 424, which constitutes a binding offer by the applicant including electronic signature via E-Authentication on www.grants.gov.

Part VI. Award Administration Information

A. Award Notices

All award notifications will be posted on the ETA Homepage (http://www.doleta.gov). Applicants selected for award will be contacted directly before the grant's execution and non-selected applicants will be notified by mail.

Note: Selection of an organization as a grantee does not constitute approval of the grant application as submitted. Before the actual grant is awarded, DOL/ETA may enter into negotiations about such items as program components, staffing and funding levels, and administrative systems in place to support grant implementation. If the negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions, if applicable:

a. Workforce Investment Act—20 Code of Federal Regulations (CFR) part 667. (General Fiscal and Administrative Rules).

b. Non-Profit Organizations—OMB Circulars A-122 (Cost Principles) and 29 CFR part 95 (Administrative Requirements).

c. Educational Institutions—OMB Circulars A-21 (Cost Principles) and 29 CFR part 95 (Administrative Requirements).

d. State and Local Governments—OMB Circulars A-87 (Cost Principles) and 29 CFR part 97 (Administrative Requirements).

e. Profit Making Commercial Firms—Federal Acquisition Regulation (FAR)—48 CFR part 31 (Cost Principles), and 29 CFR part 95 (Administrative Requirements).

f. All entities must comply with 29 CFR parts 93 and 98, and, where applicable, 29 CFR parts 96 and 99.

g. The following administrative standards and provisions may also be applicable:

i. 29 CFR part 2, subpart D—Equal Treatment in Department of Labor Programs for Religious Organizations, Protection of Religious Liberty of Department of Labor Social Service Providers and Beneficiaries;

ii. 29 CFR part 30—Equal Employment Opportunity in Apprenticeship and Training;

iii. 29 CFR part 31—Nondiscrimination in Federally Assisted Programs of the Department of Labor—Effectuation of Title VI of the Civil Rights Act of 1964;

iv. 29 CFR part 32—Nondiscrimination on the Basis of Handicap in Programs and Activities Receiving or Benefiting from Federal Financial Assistance;

v. 29 CFR part 33—Enforcement of Nondiscrimination on the Basis of Handicap in Programs or Activities Conducted by the Department of Labor;

vi. 29 CFR part 35—Nondiscrimination on the Basis of Age in Programs or Activities Receiving Federal Financial Assistance from the Department of Labor;

vii. 29 CFR part 36—Nondiscrimination on the Basis of Sex in Education Programs or Activities Receiving Federal Financial Assistance; and/or

vii. 29 CFR part 37—Implementation of the Nondiscrimination and Equal Opportunity Provisions of the Workforce Investment Act of 1998.

In accordance with Section 18 of the Lobbying Disclosure Act of 1995 (Pub. L. 104-65) (2 U.S.C. 1611) non-profit entities incorporated under Internal Revenue Service Code section 501(c) (4) that engage in lobbying activities are not eligible to receive Federal funds and grants.

Note: Except as specifically provided in this SGA, DOL/ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

2. Special Program Requirements

Evaluation. DOL may require that the program or project participate in an evaluation of overall HGJTI grant performance. To measure the impact of grants funded under the HGJTI, ETA may arrange for or conduct an independent evaluation of the outcomes and benefits of the projects. Grantees must agree to make records on participants, employers, and funding available and to provide access to program operating personnel and to participants, as specified by the evaluator(s) under the direction of ETA, including after the expiration date of the grant.

C. Reporting

The grantee is required to provide the reports and documents listed below:

Quarterly Financial Reports. A Quarterly Financial Status Report (9130) is required until such time as all funds have been expended or the grant period has expired. Quarterly reports are due 45 days after the end of each calendar year quarter. Grantees must use ETA's On-Line Electronic Reporting System.

Quarterly Progress Reports. The grantee must submit a quarterly progress report to the designated Federal Project Officer within 45 days after the end of each quarter. Two copies are to be submitted providing a detailed account of activities undertaken during that quarter. DOL may require additional data elements to be collected and reported on either a regular basis or special request basis. Grantees must agree to meet all DOL reporting requirements. The quarterly progress report should be in narrative form and should include:

1. General grant information, including a summary of grant activities and a status and update on leveraged resources and strategic partner activities.

2. A grant timeline that includes the progress of grant activities, the key deliverables for each quarter, and the products available each quarter.

3. Grant outcomes, including information on all capacity building, training, employer, and grant deliverable outcomes as well as the anticipated impact of these outcomes on the education, industry, workforce system or broader community/region; and dissemination activities and events for grant deliverables. Training outcomes will include quarterly and cumulative reports on the projected outcomes that include, but are not limited to: enrollment, number completed training, number of certificates awarded, ETA's Common Measures (which are entered employment, employment retention, and average earnings increase), number entered into employment related to training; and number receiving wage gains and promotions.

4. Highlights of promising approaches and success stories.

5. Description of technical assistance needs.

Final Report. A draft final report must be submitted no later than 60 days prior to the expiration date of the grant. This report must summarize project activities, employment outcomes, and related results of the training project, and should thoroughly document the solution approach. After responding to DOL questions and comments on the draft report, three copies of the final report must be submitted no later than the grant expiration date. Grantees must agree to use a designated format specified by DOL for preparing the final report.

VII. Agency Contacts

For further information regarding this SGA, please contact Ariam Ferro, Grants Management Specialist, Division of Federal Assistance, at (202) 693-3968 (This is not a toll-free number). Applicants should fax all technical questions to (202) 693-2705 and must specifically address the fax to the attention of Ariam Ferro and should include SGA/DFA PY 07-07, a contact name, fax and phone number.

This announcement is being made available on the ETA Web site at http://www.doleta.gov/sga/sga.cfm and at http://www.grants.gov.

Part VIII. Resources and Other Information

Resources for the Applicant. DOL maintains a number of web-based resources that may be of assistance to applicants. The webpage for the ETA's Business Relations Group (http://www.doleta.gov/BRG) is a valuable source of background on the HGJTI. America's Service Locator (http://www.servicelocator.org) provides a directory of our nation's One-Stop Career Centers. Applicants are encouraged to review “Understanding the Department of Labor Solicitation for Grant Applications and How to Write an Effective Proposal” (http://www/dol.gov/cfbci/sgabrochure.htm). For a basic understanding of the grants process and basic responsibilities of receiving Federal grant support, please see “Guidance for Faith-Based and Community Organizations on Partnering with the Federal Government (http://www.fbci.gov).

Other Information

OMB Information Collection No. 1205-0458

Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. Please do not return the completed application to the Omb. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, information submitted in the respondent's application is not considered to be confidential.

Signed at Washington, DC, this 15th day of January, 2008.
Eric D. Luetkenhaus,
Grant Officer, Employment and Training Administration.

[FR Doc. E8-1061 Filed 1-22-08; 8:45 am]

BILLING CODE 4510-FN-P